DEPARTMENT OF TRANSPORTATION

Federal Aviation Administration

Thirteenth Meeting: RTCA Special Committee 225, Rechargeable Lithium Battery and Battery Systems—Small and Medium Size

AGENCY: Federal Aviation Administration (FAA), U.S. Department of Transportation (DOT).

ACTION: Meeting Notice of RTCA Special Committee 225, Rechargeable Lithium Battery and Battery Systems—Small and Medium Size.

SUMMARY: The FAA is issuing this notice to advise the public of the twelfth meeting of the RTCA Special Committee 225, Rechargeable Lithium Battery and Battery Systems—Small and Medium Size.

DATES: The meeting will be held July 16-18, 2013, from 9:00 a.m.-5:00 p.m.

ADDRESSES: The meeting will be held at the RTCA Headquarters, 1150 18th Street NW., Suite 910, Washington, DC 20036.

FOR FURTHER INFORMATION CONTACT: The RTCA Secretariat, 1150 18th Street NW., Suite 910, Washington, DC 20036, or by telephone at (202) 330-0662/(202) 833-9339, fax (202) 833-9434, or Web site at http://www.rtca.org. In addition, Jennifer Iversen may be contacted directly at email: jiversen@rtca.org.

SUPPLEMENTARY INFORMATION: Pursuant to section 10(a)(2) of the Federal Advisory Committee Act (Pub. L. 92-463, 5 U.S.C., App.), notice is hereby given for a meeting of Special Committee 225. The agenda will include the following:

Tuesday, July 16, 2013

• Introductions and administrative items.

• Review agenda.

• Review and approval of summary from last Plenary meeting.

• Status of TOR and discussion of next steps.

• Li-ion Current Events.

• Working Group review and disposition FRAC comments.

• Review action items.

Wednesday, July 17, 2013

• Review agenda, other actions.

• Working Group review and disposition FRAC comments.

Thursday, July 18, 2013

• Review agenda, other actions.

• Review schedule for upcoming Plenaries (as needed), working group meetings, and document preparation.

• Review working group disposition of FRAC comments.

• Create plan and schedule for updating DO-311 per updated TOR.

• Establish agenda for the next Plenary.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on June 12, 2013.
Paige Williams,
Management Analyst, NextGen, Business Operations Group, Federal Aviation Administration.

[FR Doc. 2013-15138 Filed 6-24-13; 8:45 am]

BILLING CODE 4910-13-P